DEPARTMENT OF COMMERCE

International Trade Administration

A-570-848

Freshwater Crawfish Tail Meat from the People's Republic of China: Notice of Amended Final Results and Amended Order Pursuant to Final Court Decision

AGENCY: Import Administration, International Trade Administration, Department of Commerce.

SUMMARY: On April 3, 2006, the Court of International Trade (“CIT”) affirmed the Department's remand determination and entered judgment in Hontex Enterprises Inc., d/b/a Louisiana Packing Co. v. United States, Ct. No. 02-00223, Slip Op. 06-42 (Ct. Int'l Trade April 3, 2006) (“Hontex Judgment”), which challenged certain aspects of the Department of Commerce's (“the Department”) Freshwater Crawfish Tail Meat from the People's Republic of China: Final Results of Administrative Antidumping Duty and New Shipper Reviews, and Final Rescission of New Shipper Review, 65 FR 20948 (April 19, 2000) (“Final Results”) and accompanying Issues and Decision Memorandum for the Administrative Review of the Antidumping Duty Order on Freshwater Crawfish Tail Meat from the People's Republic of China From Edward C. Yang to Joseph A. Spetrini (“Decision Memo”), dated April 19, 2000. As explained below, in accordance with the order contained in the CIT's April 3, 2006, Hontex Judgment, the Department is amending the Final Results to treat Huaiyin Foreign Trade Corporation (5) (“HFTC5”) and Ningbo Nanlian Frozen Foods Company, Ltd. (“Ningbo Nanlian”) as unaffiliated, non-collapsed entities.

EFFECTIVE DATE: November 6, 2006.

FOR FURTHER INFORMATION CONTACT: Scot T. Fullerton or Christopher D. Riker, AD/CVD Operations, Office 9, Import Administration, U.S. Department of Commerce, 14th Street and Constitution Avenue, NW., Room 4003, Washington, DC 20230; telephone: (202) 482-1386 or (202) 482-3441, respectively.

SUPPLEMENTARY INFORMATION:

Background

On April 19, 2000, the Department completed its Final Results, in which it collapsed Ningbo Nanlian and HFTC5 in the 1997-1998 administrative review. See Final Results, and accompanying Decision Memo at Comment 20. On February 13, 2003, and on May 21, 2004, the CIT issued orders remanding the case to the Department and ordering the Department to further explain why its findings warranted the collapsing of HFTC5 and Ningbo Nanlian. See Hontex Enterprises, Inc., d/b/a/ Louisiana Packing Co. v. United States, 248 F. Supp. 2d 1323 (CIT 2003), and Hontex Enterprises Inc. d/b/a Louisiana Packing Company v. United States of America, 342 F. Supp. 2d 1225 (CIT 2004). The Department submitted its remand redeterminations on August 12, 2003, and October 18, 2004 (“Remand Results II”), respectively.

On August 31, 2005, the CIT issued its ruling on the Department's Remand Results II, again remanding the case to the Department. See Hontex Enterprises, Inc., d/b/a/ Louisiana Packing Co., v. United States, Slip Op. 05-116, Court No. 00-00223 (Ct. Int'l Trade August 31, 2005). Specifically, the CIT remanded the case for the Department to: (1) (a) find that Mr. Edward Lee, the owner of Louisiana Packing Co. (Louisiana Packing), an importer of crawfish tail meat from the People's Republic of China (PRC) and one of the joint venture owners of Ningbo Nanlian Frozen Foods Company, Ltd. (Ningbo Nanlian), did not control another respondent, Huaiyin Foreign Trade Corporation (5) (HFTC5), within the meaning of 19 U.S.C. § 1677(33)(F) and (G), and (b) find that HFTC5 and Ningbo Nanlian were not affiliated, and (c) find that HFTC5 and Ningbo Nanlian should not be collapsed and given a single antidumping margin, and (d) find that Ningbo Nanlian is entitled to a separate company-specific antidumping margin and calculate that margin using the verified information on the record; or (2) (a) reopen the record in order to gather additional evidence of Mr. Lee's control relationship with HFTC5 during the period of review, (b) place such additional information on the record, and (c) conduct an analysis that takes into account any such new evidence, including the temporal aspect of any such new evidence. See CPA Remand II.

The Department submitted the Final Results of Remand to the CIT on December 9, 2005. In its Final Results of Remand, in accordance with the CIT's August 31, 2005, order, the Department found (1) that Mr. Lee did not control HFTC5 within the meaning of 19 U.S.C. § 1677(33)(F) and (G), (2) that HFTC5 and Ningbo Nanlian were not affiliated, (3) that HFTC5 and Ningbo Nanlian should not be collapsed and given a single antidumping margin, and (4) that Ningbo Nanlian is entitled to a separate company-specific antidumping margin.

On April 3, 2006, the CIT sustained the final remand determination made by the Department. See Hontex Judgment. The Department filed its appeal with the United States Court of Appeals for the Federal Circuit (“CAFC”) on May 31, 2006. The CAFC granted the Department's motion to dismiss the appeal and dismissed the case on September 21, 2006.

Amendment to the Final Determination

Because there is now a final and conclusive court decision, effective as of the publication date of this notice, we are amending the 97/98 Final Results and revising the weighted-average dumping margins for both companies, for purposes of the 97/98 period of review:

Manufacturer/Exporter | Weighted-Average Margin (Percent)
Ningbo Nanlian Frozen Foods Company, Ltd. | 2.16
Huaiyin Foreign Trade Corporation (5) | 201.63

We have calculated Ningbo Nanlian's company-specific antidumping margin as 2.16 percent. See the Memorandum to the File from Maureen A. Flannery, “Analysis for the Draft Results of Determination Pursuant to Court Remand for Freshwater Crawfish Tail Meat from the People's Republic of China: Ningbo Nanlian Frozen Foods Co., Ltd.,” dated November 22, 2005. There have been no changes to this analysis for these amended final results. Additionally, we are determining HFTC5's margin based on its own performance in the administrative review. Therefore, HFTC5's antidumping duty margin will remain 201.63 percent. The Department will issue appropriate assessment instructions directly to U.S. Customs and Border Protection within 15 days of publication of the final results of this review.

This notice is issued and published in accordance with sections 751(a)(1) and 777(i)(1) of the Tariff Act of 1930, as amended.

Dated: October 30, 2006.
David M. Spooner,
Assistant Secretary for Import Administration.

[FR Doc. E6-18686 Filed 11-3-06; 8:45 am]

BILLING CODE 3510-DS-S